FEDERAL COMMUNICATIONS COMMISSION

Notice of Public Information Collection(s) being Reviewed by the Federal Communications Commission

July 10, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 19, 2002. If you anticipate that you will be submitting comments, but find it difficult to do so within the period of time allowed by this notice, you should advise the contact listed below as soon as possible.

ADDRESSES: Direct all comments to Judith Boley Herman, Federal Communications Commission, Room 1-C804, 445 12th Street, SW, DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0742.

Title: Telephone Number Portability (47 CFR part 52, subpart C, Sections 52.21-52.33) and CC Docket No. 95-116.

Form No.: N/A.

Type of Review: Revision of a currently approved collection.

Respondents: Business or other for-profit.

Number of Respondents: 1,858 respondents; 1,975 responses.

Estimated Time Per Response: .50 “ 149 hours (average).

Frequency of Response: Recordkeeping requirement, third party disclosure requirement, on occasion and annual reporting requirements.

Total Annual Burden: 13,613 hours.

Total Annual Cost: $76,635.

Needs and Uses: 47 CFR part 52, subpart C, implements the statutory requirement that LECs provide number portability. In the Memorandum Opinion and Order on Reconsideration, issued in CC Docket No. 95-116, the Commission implements new and/or modified requirements. (1) In order to calculate a multi-region carrier's share of LNP administration costs, the agency needs a certification if that carrier cannot divide its revenue by LNP region and instead chooses to allocate such revenue by subscriber percentages. (2) To ensure that a non-LNP capable incumbent LEC participating in an extended area service calling plan with an LNP-capable carrier complies with LNP cost recovery law and rules, the agency needs the collection by tariff if such a carrier seeks to recover its query and LNP administration costs.

The information is collected and required by the Commission and will be used to implement Section 251 of the Communications Act of 1934, as amended.

Federal Communications Commission.
Marlene H. Dortch,
Secretary.

[FR Doc. 02-18249 Filed 7-18-02; 8:45 am]

BILLING CODE 6712-01-P